NUCLEAR REGULATORY COMMISSION

10 CFR Parts 72 and 73

RIN 3150-AI78

[NRC-2009-0558]

Public and Closed Meeting To Discuss Comments on Draft Regulatory Basis for Rulemaking Revising Security Requirements for Facilities Storing Spent Nuclear Fuel and High-Level Radioactive Waste

AGENCY: Nuclear Regulatory Commission.

ACTION: Public meeting.

SUMMARY: The U.S. Nuclear Regulatory Commission (NRC or the Commission) will participate in a public and closed meeting with affected stakeholders to discuss comments relevant to the staff's draft regulatory basis (previously referred to as the draft technical basis) for the forthcoming security rulemaking, “Security Requirements for Radiological Sabotage,” to revise the security requirements for facilities storing spent nuclear fuel (SNF) and high-level radioactive waste (HLW). This meeting is a follow-up to the NRC's notice of availability of the draft technical basis and solicitation of public comments (74 FR 66589; December 16, 2009) to confirm that an adequate regulatory basis exists to proceed with rulemaking to issue new risk-informed and performance-based security regulations for SNF and HLW storage facilities. This portion of the meeting is open to the public and all interested parties may attend.

The NRC is also presenting information on independent spent fuel storage installation (ISFSI) vulnerability studies and information on proposed new regulatory guide, Draft Guide-5033, “Security Performance (Adversary) Characteristics for Physical Security Programs for 10 CFR [Title 10 of the Code of Federal Regulations] PART 72 Licensees.” This portion of the meeting will be closed under Exemptions 3.b of the Commission's policy statement,¹ due to the expected discussion of safeguards information.

¹ “Commission's Policy Statement on Enhancing Public Participation in NRC Meetings” (67 FR 36920; May 28, 2002).

DATES: Date and Time for Closed Session: Monday, May 2, 2011, 9 a.m. to 12:30 p.m. (Eastern Daylight Time).

Date and Time for Open Session: Monday, May 2, 2011, 1:30 p.m. to 5:30 p.m. (Eastern Daylight Time).

ADDRESSES: Public Meeting: U.S. Nuclear Regulatory Commission, Two White Flint North Building, Two White Flint North Auditorium, 11545 Rockville Pike, Rockville, Maryland 20852.

FOR FURTHER INFORMATION CONTACT: Dennis Andrukat, Office of Nuclear Security and Incident Response, U.S. Nuclear Regulatory Commission, Washington, DC 20555-0001; telephone: 301-415-3561; e-mail: Dennis.Andrukat@nrc.gov.

SUPPLEMENTARY INFORMATION:

Background

The forthcoming rulemaking would revise 10 CFR part 72, “Licensing Requirements for the Independent Storage of Spent Nuclear Fuel, High-Level Radioactive Waste, and Reactor-Related Greater Than Class C Waste,” and 10 CFR part 73, “Physical Protection of Plants and Materials,” that would apply during the storage of SNF at an ISFSI and the storage of SNF and HLW at a monitored retrievable storage installation.

The NRC requires high assurance of adequate protection of public health and safety, the common defense and security, and the environment for the secure storage of SNF and HLW. The NRC meets this strategic goal by requiring ISFSI licensees to comply with security requirements specified in 10 CFR part 73. Following the terrorist attacks of September 11, 2001, the NRC has continued to achieve this requisite high assurance for all facilities licensed to store SNF through a combination of these existing security regulations and the issuance of security orders to individual licensees.

Based on the Commission's direction presented in SRM-SECY-10-0114 (Agencywide Documents Access and Management System (ADAMS) Accession No. ML103210025) and the comments received in response to the Federal Register notice published on December 16, 2009 (74 FR 66589; ADAMS Accession No. ML093340103), the staff is hosting this meeting to discuss our understanding of the comments received.

The NRC notes that the public, licensees, certificate holders, and other stakeholders will have a future opportunity to comment on the proposed rulemaking when that document is published in the Federal Register.

Availability of Documents

The following table indicates the related documents that are available to the public and how they may be obtained.

Document | PDR | Web | NRC Library (ADAMS)
Draft Technical Basis, Revision 1 (December 2009) [NRC-2009-0558] | X | X | ML093280743
Commission: SECY-10-0114 (August 26, 2010) | X |  | ML101960614
Commission: SRM-SECY-10-0114 (November 16, 2010) | X | X | ML103210025
Commission: SECY-07-0148 (redacted) (August 28, 2007) | X | X | ML080030050
Commission: SRM-SECY-07-0148 (December 18, 2007) | X | X | ML073530119
Public Meeting Notice (March 20, 2011) | X |  | ML110880263

You can access publicly available documents related to this notice using the following methods:

• NRC's Public Document Room (PDR): The public may examine and have copied, for a fee, publicly available documents at the NRC's PDR, Public File Area O-1F21, One White Flint North, 11555 Rockville Pike, Rockville, Maryland 20852.

• NRC's ADAMS: Publicly available documents created or received at the NRC are available online in the NRC Library at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. A public meeting notice with attached agenda and maps to meeting location is available electronically in ADAMS under Accession No. ML110880263.

• Federal Rulemaking Web Site: Public comments and supporting materials related to this notice can be found at http://www.regulations.gov by searching on Docket ID NRC-2009-0558.

Availability of Services

The NRC provides reasonable accommodations to individuals with disabilities where appropriate. If you need a reasonable accommodation to participate in this meeting (e.g., sign language), or need this meeting notice or other information from the meeting in another format, please notify the NRC meeting contact, Dennis Andrukat at 301-415-3561 by April 11, 2011, so arrangements can be made.

All expected attendees must register with the NRC meeting contact by close of business on April 18, 2011. Attendees planning to attend the closed portion must provide their full name, company/organization, last four of their social security number, phone number, acknowledgement of current access to Safeguards Information (SGI) or Classified Information, and basis for need-to-know in order to verify that they are cleared for access to SGI.

No electronic devices will be allowed in the auditorium during the closed portion of the meeting, this includes cell phones, laptops, pagers, PDA's, etc. All attendees are to use rear auditorium entrance. The NRC is accessible to the White Flint Metro Station. Visitor parking near the NRC buildings is limited.

Dated at Rockville, Maryland, this 18th day of April 2011.
For the Nuclear Regulatory Commission.
Sandra L. Wastler,
Branch Chief, Materials, Waste and International Security Branch, Division of Security Policy, Office of Nuclear Security and Incident Response.

[FR Doc. 2011-10169 Filed 4-26-11; 8:45 am]

BILLING CODE 7590-01-P